DEPARTMENT OF COMMERCE

National Oceanic and Atmospheric Administration

RIN 0648-XF829

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt a commercial fishing vessel from Atlantic sea scallop regulations in support of research conducted by the Coonamessett Farm Foundation. Regulations under the Magnuson-Stevens Fishery Conservation and Management Act require publication of this notification to provide interested parties the opportunity to comment on applications for proposed Exempted Fishing Permits.

DATES: Comments must be received on or before November 28, 2017.

ADDRESSES: You may submit written comments by any of the following methods:

• Email: nmfs.gar.efp@noaa.gov. Include in the subject line “DA17-100 CFF BREP LA Flounder Sweep Study EFP.”

• Mail: John K. Bullard, Regional Administrator, NMFS, Greater Atlantic Regional Fisheries Office, 55 Great Republic Drive, Gloucester, MA 01930. Mark the outside of the envelope “Comments on DA17-100 CFF BREP LA Flounder Sweep Study EFP.”

FOR FURTHER INFORMATION CONTACT: Shannah Jaburek, Fisheries Management Specialist, 978-282-8456.

SUPPLEMENTARY INFORMATION: Coonamessett Farm Foundation (CFF) submitted an application for an EFP on September 18, 2017, for a 2017 Bycatch Reduction Engineering Program project titled “A Modified Flounder Sweep for Flatfish Bycatch Reduction in the Limited Access (LA) Scallop Fishery.” The project would test a modified flounder cookie sweep on the outer bale bars of the scallop dredge and film fish-dredge interactions to monitor the effectiveness of the gear modification in reducing flatfish bycatch.

To conduct this experiment, vessels would require exemptions from the following regulations: Atlantic sea scallop crew size restrictions at 50 CFR 648.51(c); dredge gear obstruction restrictions at § 648.51(b)(4)(ii); Atlantic sea scallop observer program requirements at § 648.11(g); and closed area exemptions for Closed Area I at § 648.60(c), Closed Area II at § 648.60(d), Closed Area II Extension at § 648.60(e), and Nantucket Lightship at § 648.60(f). It would also exempt participating vessels from possession limits and minimum fish size requirements specified in 50 CFR part 648, subsections B and D through O, for biological sampling purposes only.

Vessels would conduct scallop dredging between November 2017-June 2018, on 2 trips each lasting approximately 7 days-at-sea (DAS) each for a project total of 14 DAS. An average of 10 tows per day would be conducted for a maximum duration of 50 minutes at a tow speed range of 4.8-5.1 knots (2.5-2.6 m/s). Trips would take place in scallop open areas of Southern New England and Georges Bank along with scallop access areas Nantucket Lightship and Closed Areas I and II.

The vessel would conduct all tows with two 15-foot (4.57-m) New Bedford Style dredges, one acting as a control dredge and one acting as an experimental dredge. The vessel would tow both dredges simultaneously to reduce spatial and temporal variability. Researchers would attach the two 9-foot (2.74-m) cookie sweeps to each of the outer bale bars using chain and shackles on the experimental dredge. The cookie sweeps would alternate between the two dredges each tow to reduce “side” effects. The cookie sweeps would be constructed of round rubber disks with lead cookies approximately 3-4 inches (7.6-10.2 cm) in diameter evenly spaced to encourage bottom contact. The attachment chains would be evenly spaced and varied in length to account for dredge position while being towed to ensure contact with the ocean bottom. Exemption from the dredge gear obstruction regulation would allow researchers to use the cookie sweep for the experimental tows.

Researchers would weigh all scallop catch in industry bushel baskets caught in both dredges and measure a one-basket sub-sample from each side in 5-millimeter increments. The researchers would also obtain total weight of bycatch species and individual measurements to the nearest centimeter. If the volume of the catch is large, subsampling protocols would be necessary. All bycatch would be returned to the sea as soon as practicable following data collection. Exemption from possession limit and minimum sizes would support catch sampling activities, and ensure the vessel is not in conflict with possession regulations while collecting catch data. Researchers would discard all catch above a possession limit or below a minimum size as soon as practicable following data collection. The table below lists the anticipated catch for the project. No catch would be landed for sale.

Species | Weight (lb) | Weight (kg)
Scallop | 20,000 | 9,072
Northeast Skate Complex (Barndoor Skate not included) | 50,000 | 22,680
Barndoor Skate | 250 | 113
Summer Flounder | 90 | 41
Winter Flounder | 250 | 113
Yellowtail Flounder | 750 | 340
Windowpane Flounder | 750 | 340
Monkfish | 1,750 | 794

Researchers need additional exemptions to deploy dredge gear in closed areas in order to help locate large enough aggregations of flatfish to test the experimental gear. Participating vessels need crew size waivers to accommodate science personnel and possession waivers would enable them to conduct data collection activities. We would waive the observer program notification requirements because the research activity is not representative of standard fishing activity.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: November 7, 2017.
Emily H. Menashes,
Acting Director, Office of Sustainable Fisheries, National Marine Fisheries Service.

[FR Doc. 2017-24520 Filed 11-9-17; 8:45 am]

BILLING CODE 3510-22-P